DEPARTMENT OF TRANSPORTATION

Federal Aviation Administration

Noise Exposure Map Notice; Receipt of Noise Compatibility Program and Request for Review Boise Air Terminal (Gowen Field) Boise, ID

AGENCY: Federal Aviation Administration (FAA), DOT.

ACTION: Noise Exposure Map notice.

SUMMARY: The Federal Aviation Administration (FAA) announces its determination that the noise exposure maps submitted by the City of Boise, ID for the Boise Air Terminal (Gowen Field), Boise, Idaho under the provisions of 40 U.S.C 47501 et seq. (Aviation Safety and Noise Abatement Act) and 14 CFR 150 are in compliance with applicable requirements. The FAA also announces that it is reviewing a proposed noise compatibility program that was submitted for Boise Air Terminal (Gowen Field) under Part 150 in conjunction with the Noise Exposure Map, and that this program will be approved or disapproved on or before October 29, 2016.

DATES: Effective Date: The effective date of the FAA's determination on the noise exposure maps and of the start of its review of the associated noise compatibility program is May 2, 2016. The public comment period ends July 1, 2016.

FOR FURTHER INFORMATION CONTACT: Mr. Scott Eaton at the Federal Aviation Administration, FAA Building, Ste. 2, 2725 Skyway Drive, Helena, Montana 59602-1213, Telephone 406-449-5291.

SUPPLEMENTARY INFORMATION: This Notice announces that the FAA finds that the Noise Exposure Maps submitted for Great Falls International Airport are in compliance with applicable requirements of Title 14 Code of Federal Regulations (CFR) Part 150, effective May 2, 2016. Furthermore, FAA is reviewing a proposed noise compatibility program for that Airport which will be approved or disapproved on or before October 29, 2016. This notice also announces the availability of this Program for public review and comment.

Under 49 U.S.C., Section 47503, Aviation Safety and Noise Abatement Act (the Act), an airport operator may submit to the FAA Noise Exposure Maps which meet applicable regulations and which depict non-compatible land uses as of the date of submission of such maps, a description of projected aircraft operations, and the ways in which such operations will affect such maps. The Act requires such maps to be developed in consultation with interested parties in the local community, government agencies, and persons using the airport.

An airport operator who has submitted noise exposure maps that are found by FAA to be in compliance with the requirements of Part 150, promulgated pursuant to the Act, may submit a noise compatibility program for FAA approval which sets forth the measures the operator has taken or proposes to take to reduce existing non-compatible uses and prevent the introduction of additional non-compatible uses.

The City of Boise, ID submitted to the FAA on December 21, 2015 Noise Exposure Maps, descriptions and other documentation that were produced during the Boise Air Terminal (Gowen Field) Airport Part 150 Study conducted between September 16, 2014 and December 21, 2015. It was requested that the FAA review this material as the Noise Exposure Maps, as described in Section 47503 of the Act, and that the noise mitigation measures, to be implemented jointly by the airport and surrounding communities, be approved as a Noise Compatibility Program under Section 47504 of the Act.

The FAA has completed its review of the Noise Exposure Maps and accompanying documentation submitted by the City of Boise, ID. The documentation that constitutes the “noise exposure maps” as defined in CFR part 150 Section 150.7 includes: Boise Airport 14 CFR part 150 Study Update, Updated Noise Exposure Maps, Figure 2-1 Existing Condition Operations by Aircraft Category, Figure 2-2 Future Condition Operations by Aircraft Category, Figure 3-1 Airport Layout, Figure 3-2 Modeled Flight Tracks for Runways 9, 10L and 10R, Figure 3-3 Modeled Flight Tracks for Runways 27, 28L and 28R, Figure 4-1 Airport Influence Area, Figure 4-2 Existing Land Use, Figure 4-3 Future Land Use, Figure 4-4 Zoning in the Vicinity of the Airport, Figure 5-1 2015 Noise Exposure Map on Existing Land Use, Figure 5-2 2020 Noise Exposure Map on Existing Land Use, and Figure 5-3 2020 Noise Exposure Map on Future Land Use. The FAA has determined that these noise exposure maps and accompanying documentation are in compliance with applicable requirements. This determination is effective on May 2, 2016.

The FAA's determination on an airport operator's noise exposure maps is limited to a finding that the maps were developed in accordance with the procedures contained in Appendix A of CFR part 150. Such determination does not constitute approval of the airport operator's data, information or plans, or a commitment to approve a Noise Compatibility Program or to fund implementation of that Program. If questions arise concerning the precise relationship of specific properties to noise exposure contours depicted on a Noise Exposure Map submitted under Section 47503 of the Act, it should be noted that the FAA is not involved in any way in determining the relative locations of specific properties with regard to the depicted noise exposure contours, or in interpreting the Noise Exposure Maps to resolve questions concerning, for example, which properties should be covered by the provisions of Section 47506 of the Act. These functions are inseparable from the ultimate land use control and planning responsibilities of local government. These local responsibilities are not changed in any way under Part 150 or through FAA's review of Noise Exposure Maps. Therefore, the responsibility for the detailed overlaying of noise exposure contours onto the map depicting properties on the surface rests exclusively with the airport operator that submitted those maps, or those public agencies and planning agencies with which consultation is required under Section 47503 of the Act. The FAA has relied on the certification by the airport operator, under Section 150.21 of Part 150, that the statutorily required consultation has been accomplished.

The FAA has formally received the Noise Compatibility Program for Boise Air Terminal (Gowen Field) Airport, also effective on May 2, 2016. Preliminary review of the submitted material indicates that it conforms to the requirements for the submittal of Noise Compatibility Programs, but that further review will be necessary prior to approval or disapproval of the program. The formal review period, limited by law to a maximum of 180 days, will be completed on or before October 29, 2016.

The FAA's detailed evaluation will be conducted under the provisions of Part 150, Section 150.33. The primary considerations in the evaluation process are whether the proposed measures may reduce the level of aviation safety, create an undue burden on interstate or foreign commerce, or be reasonably consistent with obtaining the goal of reducing existing non-compatible land uses and preventing the introduction of additional non-compatible land uses. Interested persons are invited to comment on the proposed program with specific reference to these factors. All comments, other than those properly addressed to local land use authorities, will be considered by the FAA to the extent practicable.

Copies of the full Noise Exposure Map documentation and the proposed Noise Compatibility Program are available for examination at the following locations:

Scott Eaton, Community Planner, Federal Aviation Administration, Helena Airports District Office, FAA Building, Ste. 2, 2725 Skyway Drive, Helena, MT 59602, 406-449-5291.

Boise Air Terminal (Gowen Field), 3201 Airport Way, Boise, ID 83705.

Questions may be directed to the individual named above under the heading, FOR FURTHER INFORMATION CONTACT.

Issued in Renton, Washington, on May 2, 2016.
Randall S. Fiertz,
Manager, Airports Division, Northwest Mountain Region.

[FR Doc. 2016-10981 Filed 5-9-16; 8:45 am]

BILLING CODE 4910-13-P